DEPARTMENT OF ENERGY

Federal Energy Regulatory Commission

Combined Notice of Filings #1

Take notice that the Commission received the following electric rate filings:

Docket Numbers: ER10-2847-003; ER10-2818-003; ER10-2806-003; ER14-963-003.

Applicants: TransAlta Centralia Generation LLC, TransAlta Energy Marketing Corporation, TransAlta Energy Marketing (US) Inc., TransAlta Wyoming Wind LLC.

Description: Updated Market Power Analysis for Northwest Region of TransAlta MBR Sellers under ER10-2847, et. al.

Filed Date: 12/29/16.

Accession Number: 20161229-5193.

Comments Due: 5 p.m. ET 2/27/17.

Docket Numbers: ER10-2984-030.

Applicants: Merrill Lynch Commodities, Inc.

Description: Notice of Non-Material Change in Status of Merrill Lynch Commodities, Inc.

Filed Date: 12/29/16.

Accession Number: 20161229-5198.

Comments Due: 5 p.m. ET 1/19/17.

Docket Numbers: ER11-2447-003.

Applicants: Pacific Northwest Generating Cooperative.

Description: Updated Market Power Analysis of Pacific Northwest Generating Cooperative.

Filed Date: 12/29/16.

Accession Number: 20161229-5199.

Comments Due: 5 p.m. ET 2/27/17.

Docket Numbers: ER13-434-005; ER13-1403-006; ER13-2100-002; ER13-2106-006; ER13-2109-006; ER13-321-006; ER13-412-004; ER13-450-004; ER13-518-004; ER16-1750-003; ER16-2601-001.

Applicants: Dominion Energy Marketing, Inc., Dominion Nuclear Connecticut, Inc., Dominion Energy Manchester Street, Inc., Dominion Retail, Inc., Fairless Energy, LLC, NedPower Mount Storm, LLC, Fowler Ridge Wind Farm LLC, Virginia Electric and Power Company, Dominion Bridgeport Fuel Cell, LLC, Eastern Shore Solar LLC, Summit Farms Solar, LLC.

Description: Triennial Market Power Analysis of the Dominion Northeast Region Companies.

Filed Date: 12/29/16.

Accession Number: 20161229-5195.

Comments Due: 5 p.m. ET 2/27/17.

Docket Numbers: ER17-704-000.

Applicants: Powerex Corp.

Description: Market-Based Triennial Review Filing: Updated Market Power Analysis for the NW Region and Amendment to RS No. 1 to be effective 2/25/2016.

Filed Date: 12/29/16.

Accession Number: 20161229-5158.

Comments Due: 5 p.m. ET 2/27/17.

Docket Numbers: ER17-706-000.

Applicants: GridLiance West Transco LLC.

Description: Baseline eTariff Filing: GridLiance West Formula Rate Template to be effective 3/1/2017.

Filed Date: 12/30/16.

Accession Number: 20161230-5002.

Comments Due: 5 p.m. ET 1/20/17.

Docket Numbers: ER17-707-000.

Applicants: GridLiance West Transco LLC.

Description: Initial rate filing: GridLiance West Interconnection Agreement to be effective 3/1/2017.

Filed Date: 12/30/16.

Accession Number: 20161230-5003.

Comments Due: 5 p.m. ET 1/20/17.

Docket Numbers: ER17-708-000.

Applicants: Public Service Company of Colorado.

Description: § 205(d) Rate Filing: PSCo-TSGT-E&P-Mtrg Mod JM Shafer-459-0.1.0 to be effective 12/30/2016.

Filed Date: 12/30/16.

Accession Number: 20161230-5016.

Comments Due: 5 p.m. ET 1/20/17.

Docket Numbers: ER17-709-000.

Applicants: Meadow Creek Project Company LLC.

Description: § 205(d) Rate Filing: Market-Based Rate Tariff Revisions to be effective 12/31/2016.

Filed Date: 12/30/16.

Accession Number: 20161230-5017.

Comments Due: 5 p.m. ET 1/20/17.

Docket Numbers: ER17-710-000.

Applicants: Rockland Wind Farm LLC.

Description: § 205(d) Rate Filing: Market-Based Rate Tariff Revisions to be effective 12/31/2016.

Filed Date: 12/30/16.

Accession Number: 20161230-5018.

Comments Due: 5 p.m. ET 1/20/17.

Docket Numbers: ER17-711-000.

Applicants: Bethlehem Renewable Energy, LLC.

Description: Tariff Cancellation: Notice of Cancellation of MBR Tariffs to be effective 12/31/2016.

Filed Date: 12/30/16.

Accession Number: 20161230-5019.

Comments Due: 5 p.m. ET 1/20/17.

Docket Numbers: ER17-712-000.

Applicants: Pepco Energy Services, Inc.

Description: Tariff Cancellation: Notice of Cancellation of MBR Tariffs to be effective 12/31/2016.

Filed Date: 12/30/16.

Accession Number: 20161230-5020.

Comments Due: 5 p.m. ET 1/20/17.

Docket Numbers: ER17-713-000.

Applicants: Eastern Landfill Gas, LLC.

Description: Tariff Cancellation: Notice of Cancellation of MBR Tariffs to be effective 12/31/2016.

Filed Date: 12/30/16.

Accession Number: 20161230-5021.

Comments Due: 5 p.m. ET 1/20/17.

Docket Numbers: ER17-714-000.

Applicants: Virginia Electric and Power Company, PJM Interconnection, L.L.C.

Description: § 205(d) Rate Filing: Dominion Virginia Power submits Revisions to H-16A re: ADIT Changes to be effective 1/1/2017.

Filed Date: 12/30/16.

Accession Number: 20161230-5022.

Comments Due: 5 p.m. ET 1/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2016.
Nathaniel J. Davis, Sr.,
Deputy Secretary.

[FR Doc. 2017-00377 Filed 1-10-17; 8:45 am]

BILLING CODE 6717-01-P